DEPARTMENT OF JUSTICE

Antitrust Division

Notice Pursuant to the National Cooperative Research and Production Act of 1993—International Electronics Manufacturing Initiative (Formerly National Electronics Manufacturing Initiative)

Notice is hereby given that, on January 5, 2006, pursuant to seciton 6(a) of the National Cooperative Research and Production Act of 1993, 15 U.S.C. 4301 et seq. (“the Act”), International Electronics Manufacturing Initiative (“iNEMI”) has filed written notifications simultaneously with the Attorney General and the Federal Trade Commission disclosing changes in its membership, nature and objectives. The notifications were filed for the purpose of extending the Act's provisions limiting the recovery of antitrust plaintiffs to actual damages under specified circumstances.

National Electronics Manufacturing Initiative (NEMI) has changed its name to: International Electronics Manufacturing Initiative (iNEMI). The nature and objectives of iNEMI are to facilitate research and development in connection with materials, components, manufacturing-related technologies, and equipment for the manufacture of electronics products. In that connection, iNEMI plans to create technology roadmaps for future needs with respect to electronics products and propose and describe technical goals for materials, components, equipment, and manufacturing processes; promote research and development, and perform the evaluation of the ability to commercialize such technologies with members in conjunction with the aforementioned goals. iNEMI's project participants will collect, exchange, and, where appropriate, license or make public the results of the evacuations, research, and development; work closely with various governmental and private agencies, and perform other acts allowed by the National Cooperative Research and Production Act that would advance iNEMI's objectives.

In addition, Coherent, Inc., Santa Clara, CA; Guidant CRM (Cardiac Rhythm Management), St. Paul, MN; KLA-Tencor, San Jose, CA; Medtronic Microelectronics Center, Tempe, AZ; NanoDynamics, Inc., Buffalo, NY; ERSA North America, Plymouth, WI; Nihon Superior Co., Ltd., Osaka, JAPAN; PCNalert, Pasadena, CA; Purdue University, West Lafayette, IN; Symbol Technologies, Holtsville, NY; Total Parts Plus, Fort Walton Beach, FL; and Henkel Corporation, Irvine, CA have been added as parties to this venture. Also, Aurora Instruments, Inc., Ambler, PA; BTU International, North Billerica, MA; Cray, Inc., Chippewa Falls, WI; Centor Software, Irvine, CA; LACE Technologies, St. Charles, IL; Meta Group, Stamford, CT; Kulicke & Soffa Industries, Inc., Willow Grove, PA; Vytran Corporation, Morganville, NJ; and Sumitomo Electric Lightwave Corporation, Research Triangle Park, NC have withdrawn as parties to this venture.

No other changes have been made in either the membership or planned activity of the group research project. Membership in this group research project remains open, and iNEMI intends to file additional written notification disclosing all changes in membership.

On June 6, 1996, NEMI filed its original notification pursuant to section 6(a) of the Act. The Department of Justice published a notice in the Federal Register pursuant to section 6(b) of the Act on June 28, 1996 (61 FR 33774).

The last notification was filed with the Department on April 23, 2004. A notice was published in the Federal Register pursuant to section 6(b) of the Act on May 25, 2004 (69 FR 29755).

Dorothy B. Fountain,
Deputy Director of Operations, Antitrust Division.

[FR Doc. 06-1166 Filed 2-7-06; 8:45 am]

BILLING CODE 4410-11-M